DEPARTMENT OF HEALTH AND HUMAN SERVICES

Office of the Secretary

[Document Identifier: HHS-OS-0990-0406 30D]

Agency Information Collection Activities; Submission to OMB for Review and Approval; Public Comment Request

AGENCY: Office of the Secretary, HHS.

ACTION: Notice.

SUMMARY: In compliance with section 3507(a)(1)(D) of the Paperwork Reduction Act of 1995, the Office of the Secretary (OS), Department of Health and Human Services, has submitted an Information Collection Request (ICR), described below, to the Office of Management and Budget (OMB) for review and approval. The ICR is for renewal of the approved information collection assigned OMB control number 0990-0406, scheduled to expire on April 30, 2016. Comments submitted during the first public review of this ICR will be provided to OMB. OMB will accept further comments from the public on this ICR during the review and approval period.

DATES: Comments on the ICR must be received on or before April 25, 2016.

ADDRESSES: Submit your comments to OIRA_submission@omb.eop.gov or via facsimile to (202) 395-5806.

FOR FURTHER INFORMATION CONTACT: Information Collection Clearance staff, Information.CollectionClearance@hhs.gov or (202) 690-6162.

SUPPLEMENTARY INFORMATION: When submitting comments or requesting information, please include the OMB control number 0990-0406 for reference.

Information Collection Request Title: Evaluation of the National Partnership for Action to End Health Disparities

Abstract: Office of Minority Health (OMH) in the Office of the Assistant Secretary for Health (OASH), Office of the Secretary (OS) is requesting approval for an extension from the Office of Management and Budget (OMB) for a previously approved data collection activity for the Evaluation of the National Partnership for Action to End Health Disparities (NPA). The NPA was officially launched in April 2011 to mobilize a nationwide, comprehensive, community-driven, and sustained approach to combating health disparities and to move the nation toward achieving health equity. Using an approach that vests those at the front line with the responsibility of identifying and helping to shape core actions, new approaches and new partnerships are being established to help close the health gap in the United States.

OMH proposes to continue to conduct the evaluation of the NPA. The evaluation's goal is to determine the extent to which the NPA has contributed to the elimination of health disparities and attainment of health equity in our nation. The evaluation will accomplish this goal by addressing the following questions: (1) To what extent has a multi-level structure been established to support actions that will contribute to the elimination of health disparities? (2) How are leaders in the public, private, nonprofit, and community sectors engaged in collaborative, efficient, and equitable working partnerships to eliminate health disparities? (3) How many and what types of identifiable actions are being implemented at the community, state, tribal, regional, and national levels that relate directly to the five goals and 20 strategies in the National Stakeholder Strategy (NSS); (4) How much is the work to end health disparities integrated into stakeholder strategies and mainstream systems (e.g., health care quality improvement, public and community health improvement, economic and community planning and development) in and beyond the health sector? (5) What are the promising practices for implementing actions that contribute to ending health disparities?

Total Estimated Annualized Burden—Hours
Type of respondent | Form | Number of respondents | Number of responses per respondent | Average burden per response (minutes) | Total burden hours
RHEC co-chairs | RHEC co-chairs interview | 20 | 1 | 85 | 28
RHEC Subcommittee chairs | RHEC Subcommittee chairs group interviews | 50 | 1 | 90 | 75
RHEC members | Survey of all RHEC members | 350 | 1 | 20 | 117
Key NPA partner organizations | Survey of Key NPA partner organizations | 15 | 1 | 25 | 6
State Minority Health Office Directors or Coordinators and State Department of Health Representatives | Survey of State Minority Health Office Directors or Coordinators and officials from State Departments of Health | 110 | 1 | 20 | 37
Total |  | 545 |  |  | 263

Terry S. Clark,
Asst Information Collection Clearance Officer.

[FR Doc. 2016-06592 Filed 3-23-16; 8:45 am]

BILLING CODE 4150-29-P